DEPARTMENT OF LABOR

Occupational Safety and Health Administration

[Docket No. OSHA-2013-0012]

Proposed Modification to the List of Appropriate NRTL Program Test Standards and the Scopes of Recognition of Several NRTLs

AGENCY: Occupational Safety and Health Administration (OSHA), Labor.

ACTION: Notice.

SUMMARY: In this notice, OSHA proposes to delete three test standards from the NRTL Program's list of appropriate test standards; and update the scopes of recognition of several NRTLs.

DATES: Submit comments, information, and documents in response to this notice, or requests for an extension of time to make a submission, on or before August 23, 2018. All submissions must bear a postmark or provide other evidence of the submission date.

ADDRESSES:

Electronically: You may submit comments and attachments electronically at: http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit a copy of your comments and attachments to the OSHA Docket Office, Docket No. OSHA-2013-0012, Occupational Safety and Health Administration, U.S. Department of Labor, Room N-3653, 200 Constitution Avenue NW, Washington, DC 20210. Deliveries (hand, express mail, messenger, and courier service) are accepted during the Department of Labor's and Docket Office's normal business hours, 10:00 a.m. to 3:00 p.m., ET.

Instructions: All submissions must include the agency name and OSHA docket number (OSHA-2013-0012) for the Information Collection Request (ICR). All comments, including any personal information you provide, are placed in the public docket without change, and may be made available online at http://www.regulations.gov. For further information on submitting comments, see the “Public Participation” heading in the section of this notice titled SUPPLEMENTARY INFORMATION.

Docket: To read or download comments or other material in the docket, go to http://www.regulations.gov or the OSHA Docket Office at the above address. All documents in the docket (including this Federal Register notice) are listed in the http://www.regulations.gov index; however, some information (e.g., copyrighted material) is not publicly available to read or download through the website. All submissions, including copyrighted material, are available for inspection at the OSHA Docket Office. You may also contact Kevin Robinson at the below address to obtain a copy of the ICR.

Extension of comment period: Submit requests for an extension of the comment period on or before August 23, 2018 to the Office of Technical Programs and Coordination Activities, Directorate of Technical Support and Emergency Management, Occupational Safety and Health Administration, U.S. Department of Labor, 200 Constitution Avenue NW, Room N-3653, Washington, DC 20210, or by fax to (202) 693-1644.

FOR FURTHER INFORMATION CONTACT: Information regarding this notice is available from the following sources:

Press inquiries: Contact Mr. Frank Meilinger, Director, OSHA Office of Communications, U.S. Department of Labor by phone (202) 693-1999; email: meilinger.francis2@dol.gov.

General and technical information: Contact Mr. Kevin Robinson, NRTL Program, Occupational Safety and Health Administration, U.S. Department of Labor by phone (202) 693-2110; email: robinson.kevin@dol.gov. OSHA's web page includes information about the NRTL Program (see http://www.osha.gov).

Copies of this Federal Register notice: Electronic copies of this Federal Register notice are available at http://www.regulations.gov. This Federal Register notice, as well as other relevant information, is also available on OSHA's web page at http://www.osha.gov.

SUPPLEMENTARY INFORMATION:

I. Background

The NRTL Program recognizes organizations that provide product safety testing and certification services to manufacturers. These organizations perform testing and certification, for purposes of the Program, to U.S. consensus-based product safety test standards. The products covered by the NRTL Program consist of those items for which OSHA safety standards require “certification” by a NRTL. The requirements affect electrical products and 38 other types of products. OSHA does not develop or issue these test standards, but generally relies on standards development organizations (SDOs) which develop and maintain the standards using a method that provides input and consideration of views of industry groups, experts, users, consumers, governmental authorities and others having broad experience in the safety field involved.

Removal of Test Standards From the NRTL List of Appropriate Test Standards

OSHA may propose to remove a test standard from the NRTL list of appropriate test standards based on an internal review in which NRTL Program staff review the NRTL list of appropriate test standards to determine if the test standard conforms to the definition of appropriate test standard defined in NRTL Program regulations and policy. There are several reasons for removing a test standard based on the internal review by NRTL Program staff. First, a document that provides the methodology for a single test is a test method rather than an appropriate test standard. A test standard must specify the safety requirements for a specific type of product(s) (29 CFR 1910.7(c)). A test method, however, is a “specified technical procedure for performing a test” (CPL 1-0.3, App. B). As such, a test method is not an appropriate test standard. While a NRTL may use a test method to determine if certain safety requirements are met, a test method is not itself a safety requirement for a specific product category.

Second, a document that focuses primarily on usage, installation, or maintenance requirements would also not be considered an appropriate test standard (CPL 1-0.3, App. D.IV.B). In some cases, however, a document may also provide safety test specifications in addition to usage, installation, and maintenance requirements. In such cases, the document would be retained as an appropriate test standard based on the safety test specifications.

Finally, a document may not be considered an appropriate test standard if the document covers products for which OSHA does not require testing and certification (CPL 1-0.3, App. D.IV.A).

Similarly, a document that covers electrical product components would not be considered an appropriate test standard. These documents apply to types of components that have limitation(s) or condition(s) on their use, in that they are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not proposing to delete from NRTLs' scopes of recognition any test standards covering end-use products that contain such components.

OSHA may additionally propose to remove a test standard from the NRTL list of appropriate test standards if it has been withdrawn by a SDO. However, OSHA will recognize a NRTL for an appropriate replacement test standard if the NRTL has the requisite testing and evaluation capability for implementing the replacement test standard, and the replacement standard does not require an additional or different technical capability than an existing test standard. OSHA can add the replacement test standard to affected NRTLs' scopes of recognition.

II. Proposal To Delete Test Standards From the NRTL Program's List of Appropriate Test Standards

In this notice, OSHA proposes to delete three test standards from the NRTL Program's list of appropriate test standards.

Table 1 lists the test standards that OSHA proposes to delete from the NRTL Program's list of appropriate test standards, as well as an abbreviated rationale for OSHA's proposed actions. For a full discussion of the rationale, see, above, Section I of this notice.

Table 1—Test Standards OSHA Proposes To Delete From NRTL Program's List of Appropriate Test Standards
Proposed deleted test standard | Reason for proposed deletion | Proposed replacement test standard(s) (if applicable)
ISA 60079-2 | Standard Withdrawn by Standards Organization | None.
ISA 60079-5 | Standard Withdrawn by Standards Organization | None.
ISA 60079-18 | Standard Withdrawn by Standards Organization | None.

III. Proposed Modifications to Affected NRTLs' Scopes of Recognition

In this notice, OSHA proposes to update the scopes of recognition of several NRTLs. The tables in this section (Table 2 thru Table 5) list, for each affected NRTL, the test standard(s) that OSHA proposes to delete from the scope of recognition of the NRTL and the proposed appropriate replacement test standard. OSHA's analysis shows that the proposed replacement standards do not require additional or different technical capability than the proposed deleted standards so that the proposed replacement standards are comparable to the proposed deleted standards. These proposed replacement standards are already on the NRTL List of Appropriate Test Standards.

OSHA seeks comment on whether its proposed deletions are appropriate, and whether individual tables omit any appropriate replacement test standard that is comparable to a withdrawn test standard. If OSHA determines any appropriate replacement test standard that is comparable to a withdrawn test standard was omitted, then the final determination will incorporate that replacement test standard into the scope of recognition of each affected NRTL.

Comments should consist of pertinent written documents and exhibits. Commenters needing more time to comment must submit a request in writing, stating the reasons for the request, by the due date for comments. OSHA will limit any extension to 10 days unless the requester justifies a longer time period. OSHA may deny a request for an extension if it is not adequately justified.

Table 2—Test Standards OSHA Proposes To Delete From the Scope of Recognition of the Underwriters Laboratory, Inc. and the Proposed Replacement Test Standards
Proposed deleted test standard | Reason for proposed deletion | Proposed replacement test standard(s) (if applicable)
ISA 60079-2 | Standard Withdrawn by Standards Organization | UL 60079-2.
ISA 60079-5 | Standard Withdrawn by Standards Organization | UL 60079-5.
ISA 60079-18 | Standard Withdrawn by Standards Organization | UL 60079-18.

Table 3—Test Standards OSHA Proposes To Delete From the Scope of Recognition of CSA Group Testing and Certification Inc. and the Proposed Replacement Test Standards
Proposed deleted test standard | Reason for proposed deletion | Proposed replacement test standard(s) (if applicable)
ISA 60079-2 | Standard Withdrawn by Standards Organization | UL 60079-2.
ISA 60079-5 | Standard Withdrawn by Standards Organization | UL 60079-5.
ISA 60079-18 | Standard Withdrawn by Standards Organization | UL 60079-18.

Table 4—Test Standards OSHA Proposes To Delete From the Scope of Recognition of Intertek Testing Services, NA, Inc. and the Proposed Replacement Test Standards
Proposed deleted test standard | Reason for proposed deletion | Proposed replacement test standard(s) (if applicable)
ISA 60079-2 | Standard Withdrawn by Standards Organization | UL 60079-2.*
ISA 60079-5 | Standard Withdrawn by Standards Organization | UL 60079-5.*
ISA 60079-18 | Standard Withdrawn by Standards Organization | UL 60079-18.*
* This NRTL already has the proposed replacement test standard(s) in its NRTL Scope of Recognition.

Table 5—Test Standards OSHA Proposes To Delete From the Scope of Recognition of SGS North America, Inc. and the Proposed Replacement Test Standards
Proposed deleted test standard | Reason for proposed deletion | Proposed replacement test standard(s) (if applicable)
ISA 60079-2 | Standard Withdrawn by Standards Organization | UL 60079-2.
ISA 60079-5 | Standard Withdrawn by Standards Organization | UL 60079-5.
ISA 60079-18 | Standard Withdrawn by Standards Organization | UL 60079-18.

To obtain or review copies of comments submitted to the docket, contact the Docket Office, Occupational Safety and Health Administration, U.S. Department of Labor, at the above address. These materials will also be available online at http://www.regulations.gov under Docket No. OSHA-2013-0012.

OSHA staff will review all comments to the docket submitted in a timely manner and, after addressing the issues raised by these comments, will make a recommendation to the Assistant Secretary for Occupational Safety and Health regarding the removal of three test standards from the NRTL Program's List of Appropriate Test Standards and to update the scopes of recognition of several NRTLs. The Assistant Secretary will make the final decision. In making this decision, the Assistant Secretary may undertake other proceedings prescribed in Appendix A to 29 CFR 1910.7. OSHA will publish a public notice of this final decision in the Federal Register.

V. Authority and Signature

Loren Sweatt, Deputy Assistant Secretary of Labor for Occupational Safety and Health, authorized the preparation of this notice. Accordingly, the Agency is issuing this notice pursuant to 29 U.S.C. 657(g)(2)), Secretary of Labor's Order No. 1-2012 (77 FR 3912, Jan. 25, 2012), and 29 CFR 1910.7.

Signed at Washington, DC, on July 18, 2018.
Loren Sweatt,
Deputy Assistant Secretary of Labor for Occupational Safety and Health.

[FR Doc. 2018-15774 Filed 7-23-18; 8:45 am]

BILLING CODE 4510-26-P